DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of December 20, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator (Acting) for Risk Management, Federal Emergency Management Agency, Department of Homeland Security.

Community | Community map repository address
Palm Beach County, Florida and Incorporated Areas
Docket No.: FEMA-B-2102
City of Boca Raton | Zoning Department, 200 Northwest 2nd Avenue, Boca Raton, FL 33432.
City of Boynton Beach | City Hall, 100 East Ocean Avenue, Boynton Beach, FL 33435.
City of Delray Beach | Building Division, 100 Northwest 1st Avenue, Delray Beach, FL 33444.
City of Lake Worth Beach | Community Sustainability Department, 1900 2nd Avenue North, Lake Worth Beach, FL 33461.
City of Palm Beach Gardens | Engineering Department, 10500 North Military Trail, Palm Beach Gardens, FL 33410.
City of Riviera Beach | Development Services, 600 West Blue Heron Boulevard, Riviera Beach, FL 33404.
City of West Palm Beach | Building Department, 401 Clematis Street, West Palm Beach, FL 33401.
Town of Briny Breezes | Town Hall, 4802 North Ocean Boulevard, Briny Breezes, FL 33435.
Town of Gulf Stream | Town Hall, 100 Sea Road, Gulf Stream, FL 33483.
Town of Highland Beach | Building Department, 3616 South Ocean Boulevard, Highland Beach, FL 33487.
Town of Hypoluxo | Town Hall, 7580 South Federal Highway, Hypoluxo, FL 33462.
Town of Juno Beach | Building Department, 340 Ocean Drive, Juno Beach, FL 33408.
Town of Jupiter | Utilities Department, 210 Military Trail, Jupiter, FL 33458.
Town of Jupiter Inlet Colony | Building and Zoning Department, 50 Colony Road, Jupiter Inlet Colony, FL 33469.
Town of Lake Park | Community Development Department, 535 Park Avenue, Lake Park, FL 33403.
Town of Lantana | Building Department, 504 Greynolds Circle, Lantana, FL 33462.
Town of Manalapan | Town Hall, 600 South Ocean Boulevard, Manalapan, FL 33462.
Town of Ocean Ridge | Building Department, 6450 North Ocean Boulevard, Ocean Ridge, FL 33435.
Town of Palm Beach | Building Division, 360 South County Road, Palm Beach, FL 33480.
Town of Palm Beach Shores | Building Department, 247 Edwards Lane, Palm Beach Shores, FL 33404.
Town of South Palm Beach | Building Department, 3577 South Ocean Boulevard, South Palm Beach, FL 33480.
Unincorporated Areas of Palm Beach County | Palm Beach County Planning, Zoning and Building Department, 2300 North Jog Road, West Palm Beach, FL 33411.
Village of North Palm Beach | Community Development Department, 701 US Highway 1, North Palm Beach, FL 33408.
Village of Tequesta | Building Department, 345 Tequesta Drive, Tequesta, FL 33469.
Madison County, Montana and Incorporated Areas
Docket No.: FEMA-B-2351
Town of Ennis | Town Hall, 328 West Main Street, Ennis, MT 59729.
Town of Sheridan | Town Hall, 103 East Hamilton Street, Sheridan, MT 59749.
Town of Twin Bridges | Town Hall, 104 East 6th Avenue, Twin Bridges, MT 59754.
Unincorporated Areas of Madison County | Madison County Commissioners, 103 West Wallace Street, Virginia City, MT 59755.
Hamilton County, Ohio and Incorporated Areas
Docket No.: FEMA-B-2364
City of Forest Park | City Hall, 1201 West Kemper Road, Forest Park, OH 45240.
Unincorporated Areas of Hamilton County | Hamilton County Department of Planning and Development, 138 East Court Street, Room 800, Cincinnati, OH 45202.
Village of Cleves | Administration Offices, 92 Cleves Avenue, Cleves, OH 45002.
Williamson County, Tennessee and Incorporated Areas
Docket Nos.: FEMA-B-2062 and 2366
City of Brentwood | City Hall, 5211 Maryland Way, Brentwood, TN 37027.
City of Franklin | City Hall, 109 3rd Avenue South, Suite 110, Franklin, TN 37064.
Town of Thompson's Station | Town Hall, 1110 Fountain View Boulevard, Thompson's Station, TN 37179.
Unincorporated Areas of Williamson County | Williamson County Administrative Complex, 1320 West Main Street, Suite 400, Franklin, TN 37064.
Fond du Lac County, Wisconsin and Incorporated Areas
Docket No.: FEMA-B-2293
Unincorporated Areas of Fond du Lac County | City-County Government Center, Code Enforcement Office, 160 South Macy Street, Fond du Lac, WI 54935.
Village of Kewaskum | Village Hall, 204 First Street, Kewaskum, WI 53040.
Carbon County, Wyoming and Incorporated Areas
Docket No.: FEMA-B-2102 and FEMA-B-2336
City of Rawlins | Public Works Department, 915 3rd Street, Rawlins, WY 82301.
Town of Baggs | Town Hall, 130 Penland Street, Baggs, WY 82321.
Town of Dixon | Town Hall, 301 Cottonwood Street, Dixon, WY 82323.
Town of Elk Mountain | Town Hall, 206 Bridge Street, Elk Mountain, WY 82324.
Town of Encampment | Town Hall, 614 McCaffrey Avenue, Encampment, WY 82325.
Town of Hanna | Town Hall, 301 South Adams Street, Hanna, WY 82327.
Town of Medicine Bow | Town Hall, 319 Pine Street, Medicine Bow, WY 82329.
Town of Riverside | Town Hall, 207 West Welton Street, Riverside, WY 82325.
Town of Saratoga | Town Hall, 110 East Spring Avenue, Saratoga, WY 82331.
Town of Sinclair | Town Hall, 300 Lincoln Avenue, Sinclair, WY 82334.
Unincorporated Areas of Carbon County | Carbon County Planning and Development Department, 215 West Buffalo Street, Suite 336, Rawlins, WY 82301.

[FR Doc. 2024-18881 Filed 8-21-24; 8:45 am]

BILLING CODE 9110-12-P